DEPARTMENT OF DEFENSE

Office of the Secretary

Charter Renewal of Department of Defense Federal Advisory Committees—Department of Defense Medicare-Eligible Retiree Health Care Board of Actuaries

AGENCY: Department of Defense (DoD).

ACTION: Charter renewal of Federal advisory committee.

SUMMARY: The DoD is publishing this notice to announce that it is renewing the charter for the DoD Medicare-Eligible Retiree Health Care Board of Actuaries (MERHC BoA).

FOR FURTHER INFORMATION CONTACT: Jim Freeman, DoD Advisory Committee Management Officer at james.d.freeman4.civ@mail.mil, 703-697-1142.

SUPPLEMENTARY INFORMATION: The charter for the MERHC BoA is being renewed in accordance with chapter 10 of title 5, United States Code (U.S.C.) (commonly known as the “Federal Advisory Committee Act” or the “FACA”) and 41 CFR 102-3.50(a). The charter and contact information for the MERHC BoA's Designated Federal Officer (DFO) are found at https://www.facadatabase.gov/FACA/apex/FACAPublicAgencyNavigation.

The MERHC BoA provides independent advice and recommendations on actuarial matters associated with the DoD Medicare-Eligible Retiree Health Care Fund (the Fund) and other related matters. Pursuant to 10 U.S.C. 1114(b), the MERHC BoA reports annually to the Secretary of Defense and the Deputy Secretary of Defense on the actuarial status of the Fund and shall furnish its advice and opinion on matters referred to it by the Secretary of Defense. Pursuant to 10 U.S.C. 1114(c), the MERHC BoA reviews valuations of the Fund under 10 U.S.C. 1115(c) and reports periodically, not less than once every four years to the President and Congress on the status of the Fund. The MERHC BoA shall include in such reports recommendations for such changes as in the MERHC BoA's judgment are necessary to protect the public interest and maintain the Fund on a sound actuarial basis.

The MERHC BoA, pursuant to 10 U.S.C. 1114(a)(1) and (2), shall consist of three members who shall be appointed by the Secretary of Defense from among qualified professional actuaries who are members of the Society of Actuaries. MERHC BoA members will serve for a term of 15-years, except that a MERHC BoA member appointed to fill a vacancy occurring before the end of the term of which the predecessor was appointed shall serve only until the end of such term. A MERHC BoA member may serve after the end of the term until a successor has taken office. Of the members of the Board, one each shall be appointed for terms ending five, ten, and 15 years respectively, after the date of appointment, as designated by the Secretary of Defense at the time of appointment.

MERHC BoA members who are not full-time or permanent part-time Federal civilian officers or employees, or active-duty members of the Uniformed Services, shall be appointed as experts or consultants pursuant to 5 U.S.C. 3109 to serve as special government employee members and are entitled, pursuant to 10 U.S.C. 1114(a)(3), to receive pay at the daily equivalent of the annual rate of basic pay of the highest rate of basic pay under the General Schedule of subchapter 53 of title 5 U.S.C., for each day the member is engaged in the performance of duties vested in the MERHC BoA. MERHC BoA members who are full-time or permanent part-time Federal civilian officers or employees, or members of the uniformed Services, shall be appointed pursuant to 41 CFR 102-3.130(a) to serve as regular government employee members.

Each MERHC BoA member is appointed to exercise their own judgment on behalf of the DoD, without representing any particular point of view, and to discuss and deliberate in a manner that is free from conflict of interest.

The public or interested organizations may submit written statements to the MERHC BoA membership about its mission and functions. Written statements may be submitted at any time or in response to the stated agenda of planned meeting of the MERHC BoA. All written statements shall be submitted to the DFO for the MERHC BoA, and this individual will ensure that the written statements are provided to the membership for their consideration.

Dated: December 9, 2024.
Aaron T. Siegel,
Alternate OSD Federal Register Liaison Officer, Department of Defense.

[FR Doc. 2024-29338 Filed 12-12-24; 8:45 am]

BILLING CODE 6001-FR-P